DEPARTMENT OF COMMERCE

National Oceanic and Atmospheric Administration

RIN 0648-XD237

Marine Mammals; File No. 18438

AGENCY: National Marine Fisheries Service (NMFS), National Oceanic and Atmospheric Administration (NOAA), Commerce.

ACTION: Notice; receipt of application.

SUMMARY: Notice is hereby given that the Alaska SeaLife Center (ASLC; Responsible Party, Tara Jones, Ph.D.) 301 Railway Avenue, P.O. Box 1329, Seward, AK 99664, has applied in due form for a permit to conduct research on Steller sea lions (Eumetopias jubatus).

DATES: Written, telefaxed, or email comments must be received on or before May 19, 2014.

ADDRESSES: The application and related documents are available for review by selecting “Records Open for Public Comment” from the Features box on the Applications and Permits for Protected Species (APPS) home page, https://apps.nmfs.noaa.gov, and then selecting File No. 18438 from the list of available applications.

These documents are also available upon written request or by appointment in the following office:

Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include File No. 18438 in the subject line of the email comment.

Those individuals requesting a public hearing should submit a written request to the Chief, Permits and Conservation Division at the address listed above. The request should set forth the specific reasons why a hearing on this application would be appropriate.

FOR FURTHER INFORMATION CONTACT: Amy Sloan or Tammy Adams, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The Alaska SeaLife Center (ASLC) requests a five-year permit to conduct Steller sea lion population monitoring and health, nutrition, and foraging studies to provide data on pup and juvenile survival, reproductive rates, diet, epidemiology, endocrinology, immunology, physiology, ontogenetic and annual body condition cycles, and behavior. Individual sea lions may be taken by the following means with maximum number of takes per year in parentheses: disturbance associated with capture, observational studies, and material/scat/carcass collection (14,000); capture, restraint, and sampling (200); and remote biopsy (150). Captured sea lions will undergo morphometric measurements, blood and tissue collection, digital imaging, hot-branding, body condition measurement, whisker, hair, and milk sampling, temporary marking, and ultrasound exams. Individuals will be taken from the Gulf of Alaska and Aleutian Islands. Marine mammals that may be incidentally disturbed include harbor seals (Phoca vitulina), sea otters (Enhydra lutris), and California sea lions (Zalophus californianus).

In compliance with the National Environmental Policy Act of 1969 (42 U.S.C. 4321 et seq.), an initial determination has been made that the activities proposed are consistent with the Preferred Alternative in the Final Programmatic Environmental Impact Statement for Steller Sea Lion and Northern Fur Seal Research (NMFS 2007), and that issuance of the permit would not have a significant adverse impact on the human environment.

Concurrent with the publication of this notice in the Federal Register, NMFS is forwarding copies of the application to the Marine Mammal Commission and its Committee of Scientific Advisors.

Dated: April 14, 2014.
Tammy C. Adams,
Acting Chief, Permits and Conservation Division, Office of Protected Resources, National Marine Fisheries Service.

[FR Doc. 2014-08739 Filed 4-16-14; 8:45 am]

BILLING CODE 3510-22-P